DEPARTMENT OF HOMELAND SECURITY

Coast Guard

33 CFR Part 100

[CGD05-04-012]

RIN 1625-AA08

Special Local Regulations for Marine Events; Severn River, College Creek, and Weems Creek, Annapolis, MD

AGENCY: Coast Guard, DHS.

ACTION: Notice of implementation of regulation.

SUMMARY: The Coast Guard is implementing the special local regulations for the 25th Annual Safety at Sea Seminar, a marine event to be held March 27, 2004, on the waters of the Severn River at Annapolis, Maryland. These special local regulations are necessary to control vessel traffic due to the confined nature of the waterway and expected vessel congestion during the event. The effect will be to restrict general navigation in the regulated area for the safety of spectators and vessels transiting the event area.

DATES: 33 CFR 100.518 will be enforced from 11:30 a.m. to 2 p.m. on March 27, 2004.

FOR FURTHER INFORMATION CONTACT: R.L. Houck, Marine Information Specialist, Commander, Coast Guard Activities Baltimore, 2401 Hawkins Point Road, Baltimore, MD 21226-1971, (410) 576-2674.

SUPPLEMENTARY INFORMATION: The U.S. Naval Academy Sailing Squadron will sponsor the 25th Annual Safety at Sea Seminar on the waters of the Severn River, near the entrance to College Creek at Annapolis, Maryland. Waterborne activities will include exposure suit and life raft demonstrations, a pyrotechnics live-fire exercise, and a helicopter rescue. In order to ensure the safety of participants, spectators and transiting vessels, 33 CFR 100.518 will be in enforced for the duration of the event. Under provisions of 33 CFR 100.518, vessels may not enter the regulated area without permission from the Coast Guard Patrol Commander. Spectator vessels may anchor outside the regulated area but may not block a navigable channel. Because these restrictions will only be enforced for a limited period, they should not result in a significant disruption of maritime traffic.

Dated: March 4, 2004.
Sally Brice-O'Hara,
Rear Admiral, U.S. Coast Guard, Commander, Fifth Coast Guard District.

[FR Doc. 04-5794 Filed 3-12-04; 8:45 am]

BILLING CODE 4910-15-P